DEPARTMENT OF HOMELAND SECURITY

Office of the Secretary

Notice Designating Stevens Institute of Technology as a DHS Center of Excellence for the Study of Maritime, Island and Extreme/Remote Environment Security as Research Co-Lead Institution

AGENCY: Office of the Secretary, Department of Homeland Security.

ACTION: Notice.

SUMMARY: The Department of Homeland Security has designated Stevens Institute of Technology as a DHS Center of Excellence for the Study of Maritime, Island and Extreme/Remote Environment Security, Research Co-Lead Institution.

FOR FURTHER INFORMATION CONTACT: Tiffany Lightbourn, Program Manager, University Programs, Science and Technology Directorate, Department of Homeland Security, Washington, DC 20528; telephone 202-254-5843, facsimile 202-254-6179; e-mail tiffany.lightbourn@dhs.gov.

SUPPLEMENTARY INFORMATION:

Background

Section 308 of the Homeland Security Act of 2002, Public Law 107-296, (the “Homeland Security Act”), as amended by the Consolidated Appropriations Resolution 2003, Public Law 108-7, and as codified in Title 6 of the United States Code Chapter I Subchapter III Section 188(b)(2) [6 U.S.C. 188(b)(2)], directs the Department of Homeland Security (“Department”) to sponsor extramural research, development, demonstration, testing and evaluation programs relating to homeland security. As part of this program, the Department has established a coordinated system of university-based centers for homeland security (the “Centers”).

The Centers are envisioned to be an integral component of the Department's capability to anticipate, prevent, respond to, and recover from terrorist attacks. The Centers will leverage multidisciplinary capabilities and fill gaps in current knowledge.

Title 6 U.S.C. 188(b)(2)(B) lists fourteen areas of substantive expertise that, if demonstrated, might qualify universities for designation as university-based centers. The listed areas of expertise include: (1) The training of first responders; (2) responding to incidents involving weapons of mass destruction and biological warfare; (3) emergency and diagnostic medical services; (4) chemical, biological, radiological and nuclear countermeasures or detection; (5) animal and plant health and diagnostics; (6) food safety; (7) water and wastewater operations; (8) port and waterway security; (9) multi-modal transportation; (10) information security and information engineering; (11) engineering; (12) educational outreach and technical assistance; (13) border and transportation security; and (14) the public policy implications and public dissemination of homeland security relevant research and development. However, the list is not exclusive. 6 U.S.C. 188(b)(2)(C) gives the Secretary discretion to except certain criteria specified in 6 U.S.C. 188(b)(2)(B) and consider additional criteria beyond those specified in 6 U.S.C. 188(b)(2)(B) in selecting universities for this program, as long as the Department issues a Federal Register notice explaining the criteria used for the designation.

Criteria

In response to Congressional direction contained in the Conference Report for the Fiscal Year 2007 Department of Homeland Security Appropriations Act, the DHS Under Secretary for Science and Technology developed a plan in November 2006 to establish new DHS Centers of Excellence in high priority science and technology areas which aligned to the DHS Science and Technology Directorate's research portfolios and for which DHS determined there were significant gaps in scientific understanding and technological development. These areas included: 1. Natural Disasters, Coastal Infrastructure and Emergency Management, 2. Explosives Detection, Mitigation and Response, 3. Border Security and Immigration, and 4. Maritime, Island and Extreme/Remote Environment Security. Research in these areas will contribute significantly to the Department's ability to enhance homeland security and the safety of our citizens from both natural and man-made threats.

The criteria for designation for this new Center of Excellence (COE) for the Study of Maritime Island and Extreme/Remote Environment Security is demonstrated expertise in conducting fundamental research into the issues and challenges of global maritime domain security technology and policy. In addition this COE will conduct research on maritime and security interests in U.S. islands, territories, and extreme environments (e.g. Hawaii, Puerto Rico and Alaska). Research results will support DHS, other Federal, and state and local agencies' missions to secure national maritime borders and the U.S. maritime interests. This COE will collaborate closely with the S&T Directorate's Borders & Maritime Division which manages a full-spectrum research and development (R&D) program from fundamental research to advanced technologies. The COE for the Study of Maritime, Island and Extreme/Remote Environment Security will provide enabling basic research that will advance the technical tools and information that S&T's customers will need in the future to defend maritime commerce and the global supply chain, minimize damage and expedite recovery from attacks or catastrophic events impacting the maritime domain, and protect maritime-related population centers, critical infrastructure and other national maritime interests. This COE will develop relevant educational curricula for both matriculated students and career professionals.

The Center of Excellence for the Study of Maritime, Island and Extreme/Remote Environment Security will conduct basic and transformational research on maritime security issues in the following areas:

1. Maritime Domain Awareness. Specifically the COE will research the best ways—with full regard to legal and international frameworks, sensitivity to privacy, effectiveness, and affordability—of maintaining necessary and appropriate surveillance over the U.S. and global maritime domain and its users, ports of entry and maritime infrastructure. In addition, the COE will develop improvements in our ability to screen and scan cargo, vessels, passengers, the maritime workforce and the boating public, so that contraband does not enter the U.S.

2. Marine Transportation System Security, Critical Infrastructure Protection, Resiliency and Recovery. Research will develop effective and feasible ways to imbed security practices that will enhance supply chain transparency and protect against intentional acts of terrorism. Research will assess the risk and vulnerability of extreme environments for terrorist attacks and catastrophic events and methods to mitigate the consequences of these events on people, commerce, and critical infrastructure should they occur. Research will evaluate the resiliency of the maritime transportation system to aid in maritime system recovery planning.

3. Maritime Risk Management, Policy Analysis, & International Governance. Research will develop new technologies and improved risk assessment methodologies to prioritize protection efforts, and best leverage public and private layered security efforts to protect critical maritime infrastructure. Policy and legal analysis will be conducted to enhance cooperation among nations and international organizations that share common interests regarding the security of the maritime domain.

4. Maritime Enforcement, Operational Analyses, & Command, Control, and Communications. In particular the COE will develop approaches that allow for multiple layers of security and diverse forms of surveillance, interdiction, and enforcement to be effectively integrated. Research will also facilitate the timely communication of information and analysis generated by surveillance and screening systems.

Announcement of Funding Opportunities and Competition

In February 2007, the Department established a competitive process and requested white papers and proposals from universities that wished to be designated as DHS Centers of Excellence in: 1. Explosives Detection Mitigation and Response, 2. Explosives Detection, Mitigation and Response, 3. Border Security Immigration, or 4. Maritime, Island and Extreme/Remote Environment Security. The funding opportunity announcements for these four Centers of Excellence were published at http://www.grants.gov on February 4, 2007, as required by the Office of Management and Budget. In the area of Maritime, Island and Extreme/Remote Environment Security DHS received 8 white papers and evaluated them through a peer-review panel process that included scientific expertise from the federal government, peer-institutional faculty, and the private sector. Following the white paper review, DHS received 4 full proposals by the closing date of July 30, 2007. The 4 full proposals were reviewed by subject matter experts external to DHS S&T. Two full proposals were referred to an internal review panel of S&T subject matter experts for evaluation, who recommended site visits at both sites. Based on information collected on these site visits, DHS selected University of Hawaii and Stevens Institute of Technology to be Research Co-Lead Institutions for the Maritime, Island and Extreme/Remote Environment Security Center of Excellence.

Stevens Institute of Technology and its partners will conduct basic and transformational research on maritime related issues including Maritime Domain Awareness; Marine Transportation System Security, Critical Infrastructure Protection, Resiliency and Recovery; Maritime Risk Management, Policy Analysis, & International Governance; and Maritime Enforcement, Operational Analyses, & Command, Control, and Communications.

Jay M. Cohen,
Under Secretary for Science and Technology, Department of Homeland Security.

[FR Doc. E8-13290 Filed 6-12-08; 8:45 am]

BILLING CODE 4410-10-P